NUCLEAR REGULATORY COMMISSION

[NRC-2014-0001]

Sunshine Act Meeting Notice

DATE: Weeks of September 29, October 6, 13, 20, 27, November 3, 2014.

PLACE: Commissioners' Conference Room, 11555 Rockville Pike, Rockville, Maryland.

STATUS: Public and Closed.

Week of September 29, 2014

Thursday, October 2, 2014

10:00 a.m. Meeting with the Advisory Committee on Reactor Safeguards (ACRS) (Public Meeting); (Contact: Ed Hackett, 301-415-7360)

This meeting will be webcast live at the Web address— http://www.nrc.gov/.

Friday, October 3, 2014

2:00 p.m. Discussion of International Activities (Closed—Ex. 9)

Week of October 6, 2014—Tentative

Tuesday, October 7, 2014

9:00 a.m. Briefing on the Status of Near-Term Task Force Recommendation 2 for Seismic Hazard Reevaluations (Public Meeting); (Contact: Nicholas DiFrancesco, 301-415-1115)

This meeting will be webcast live at the Web address— http://www.nrc.gov/.

Week of October 13, 2014—Tentative

Wednesday, October 15, 2014

11:00 a.m. Discussion of Management and Personnel Issues (Closed—Ex. 2 and 6)

Week of October 20, 2014—Tentative

There are no meetings scheduled for the week of October 20, 2014.

Week of October 27, 2014—Tentative

Wednesday, October 29, 2014

9:00 a.m. Briefing on Security Issues (Closed—Ex. 1)

1:30 p.m. Briefing on Security Issues (Closed—Ex. 1)

Thursday, October 30, 2014

9:00 a.m. Briefing on Watts Bar Unit 2 License Application Review (Public Meeting) (Contact: Justin Poole, 301-415-2048)

This meeting will be webcast live at the Web address— http://www.nrc.gov/.

Week of November 3, 2014—Tentative

There are no meetings scheduled for the week of November 3, 2014.

* * * * *

The schedule for Commission meetings is subject to change on short notice. For more information or to verify the status of meetings, contact Rochelle Bavol at (301) 415-1651 or via email at Rochelle.Bavol@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, by videophone at 240-428-3217, or by email at Kimberly.Meyer-Chambers@nrc.gov. Determinations on requests for reasonable accommodation will be made on a case-by-case basis.

* * * * *

Members of the public may request to receive this information electronically. If you would like to be added to the distribution, please contact the Office of the Secretary, Washington, DC 20555 (301-415-1969), or send an email to Patricia.Jimenez@nrc.gov or Brenda.Akstulewicz@nrc.gov.

Dated: September 25, 2014.
Rochelle C. Bavol,
Policy Coordinator, Office of the Secretary.

[FR Doc. 2014-23284 Filed 9-25-14; 4:15 pm]

BILLING CODE 7590-01-P